DEPARTMENT OF THE TREASURY

Submission for OMB Review; Comment Request

ACTION: Notice; Correction.

SUMMARY: The Department of the Treasury published a document in the Federal Register on July 22, 2011, inviting comments on collections of information submitted to the Office of Management and Budget (OMB) for review. This document contained an incorrect reference.

Correction

In the Federal Register of July 22, 2011, in FR Doc. 2011-18536, make the following correction:

• page 44084, in the third column, under OMB Number: 1510-0014: replace “1510-0014” with “1510-0004”.

Dated: July 27, 2011.
Dawn D. Wolfgang,
Treasury PRA Clearance Officer.

[FR Doc. 2011-19344 Filed 7-29-11; 8:45 am]

BILLING CODE 4810-35-P